INTERNATIONAL TRADE COMMISSION

[USITC SE-11-018]

Government in the Sunshine Act Meeting Notice

AGENCY HOLDING THE MEETING: United States International Trade Commission.

TIME AND DATE: July 8, 2011 at 9:30 a.m.

PLACE: Room 110, 500 E Street, SW., Washington, DC 20436, Telephone: (202) 205-2000.

STATUS: Open to the public.

MATTERS TO BE CONSIDERED: 1. Agendas for future meetings: none.

2. Minutes.

3. Ratification List.

4. Vote in Inv. Nos. 701-TA-382 and 731-TA-798-803 (Second Review) (Stainless Steel Sheet and Strip from Germany, Italy, Japan, Korea, Mexico, and Taiwan). The Commission is currently scheduled to transmit its determinations and Commissioners' opinions to the Secretary of Commerce on or before July 27, 2011.

5. Outstanding action jackets: none.

In accordance with Commission policy, subject matter listed above, not disposed of at the scheduled meeting, may be carried over to the agenda of the following meeting.

By order of the Commission.
Issued: June 29, 2011.
William R. Bishop,
Hearings and Meetings Coordinator.

[FR Doc. 2011-16827 Filed 6-30-11; 11:15 am]

BILLING CODE 7020-02-P